DEPARTMENT OF COMMERCE

National Oceanic and Atmospheric Administration

50 CFR Part 679

[ID 082503D]

RIN 0648-AQ98

Fisheries of the Exclusive Economic Zone off Alaska; Individual Fishing Quota Program; Community Purchase

AGENCY: National Marine Fisheries Service (NMFS), National Oceanic and Atmospheric Administration (NOAA), Commerce.

ACTION: Notice of Availability; request for comments.

SUMMARY: The North Pacific Fishery Management Council (Council) has submitted Amendment 66 to the Fishery Management Plan for Groundfish of the Gulf of Alaska (FMP). This amendment would modify the Individual Fishing Quota (IFQ) Program by revising the definition of an eligible quota share holder to allow eligible communities in the Gulf of Alaska (GOA) to purchase and hold sablefish quota share (QS) for lease to and use by community residents.

DATES: Comments on Amendment 66 must be received at the following address by November 3, 2003.

ADDRESSES: Comments on the FMP amendment may be mailed to Sue Salveson, Assistant Regional Administrator, Sustainable Fisheries Division, Alaska Region, NMFS, P.O. Box 21668, Juneau, AK 99802-1668, Attn: Lori Durall. Comments may be delivered in person or by courier to the Federal Building, 709 West 9th St., Room 413-1, Juneau, AK, 99801. Comments also may be sent via facsimile to (907) 586-7557, Attn: Lori Durall. Copies of Amendment 66 to the FMP and the Environmental Assessment/Regulatory Impact Review/Initial Regulatory Flexibility Analysis (EA/RIR/IRFA) prepared for this action by the Council and NMFS are available from NMFS at the above address, or by calling the Alaska Region, NMFS, at (907) 586-7228.

FOR FURTHER INFORMATION CONTACT: Glenn Merrill, (907) 586-7228, or glenn.merrill@noaa.gov.

SUPPLEMENTARY INFORMATION: The Magnuson-Stevens Fishery Conservation and Management Act (Magnuson-Stevens Act) requires that each regional fishery management council submit any FMP or FMP amendment it prepares to the Secretary of Commerce (Secretary) for review and approval, disapproval, or partial approval. The Magnuson-Stevens Act also requires that the Secretary, upon receiving an FMP, immediately publish a notice in the Federal Register that the FMP or amendment is available for public review and comment.

Amendment 66 was adopted by the Council in April 2002. If approved by NMFS, this amendment would allow certain remote communities to designate non-profit entities to purchase and hold QS and lease the resulting IFQ to community residents. To be eligible for this community purchase program, a community would have to have of population of less than 1,500 people, no road access to larger communities, and have direct access to marine waters of the GOA. Further, the Council determined which communities would meet these criteria and this list of eligible communities would be specified in the implementing rules. A non-profit entity of an eligible community also would have to meet criteria to receive QS by transfer and would have to submit annual reports. These non-profit entities would be subject to restrictions on the amount of quota they may hold individually and in the aggregate, on the sale of QS, and the leasing of IFQ.

Amendment 66 would be necessary to allow sablefish QS to be purchased and held by eligible communities because the current FMP limits the transfer of QS, with certain exemptions, to individuals and not corporate entities. The IFQ Program for Pacific halibut is implemented under authority of the North Pacific Halibut Act of 1982 (Halibut Act) instead of the Magnuson -Stevens Act, and the Council does not have a halibut fishery management plan. If this proposed policy change is approved, however, the halibut and sablefish components would be implemented with the same rules. Amendment 66, and its companion regulatory amendment for halibut also is designed to comply with the Magnuson-Stevens Act mandate that Regional Councils must take into account the importance of fishery resources to communities in order to provide for the sustained participation of such communities, and to the extent practicable, minimize adverse economic impacts on such communities.

Public comments are being solicited on the amendment through the end of the comment period (see DATES). A proposed rule that would implement the amendment may be published in the Federal Register for public comment following NMFS' evaluation under Magnuson-Stevens Act procedures. All comments received by the end of the comment period whether specifically directed to the amendment or the proposed rule, will be considered in the approval/disapproval decision on the amendment. To be considered in the approval/disapproval decision on the amendment, comments must be received by the close of business on the last day of the comment period on the amendment; that does not mean postmarked or otherwise transmitted by that date.

Dated: August 27, 2003.
Bruce C. Morehead,
Acting Director, Office of Sustainable Fisheries, National Marine Fisheries Service.

[FR Doc. 03-22343 Filed 8-29-03; 8:45 am]

BILLING CODE 3510-22-S